DEPARTMENT OF COMMERCE

International Trade Administration

[C-122-815]

Pure and Alloy Magnesium From Canada; Ministerial Error in Final Results of Full Sunset Reviews of Countervailing Duty Orders

AGENCY: Import Administration, International Trade Administration, Department of Commerce.

ACTION: Notice of ministerial error in final results of full sunset reviews: pure and alloy magnesium from Canada [C-122-815].

SUMMARY: On July 5, 2000, the Department of Commerce (“the Department”) published in the Federal Register the final results of the full sunset reviews of the countervailing duty orders on pure and alloy magnesium from Canada (65 FR 41444, July 5, 2000). Subsequent to the publication of that notice, we received a submission on behalf of Magnesium Corporation of America, (“Magcorp”) alleging a ministerial error in the calculation of the “all others” rate (see July 3, 2000, Allegation of Ministerial Error by Magcorp at 2). On July 13, 2000, the Department concluded that the “all others” rate of 4.48 percent, which was published in the Final Result of Review, and reported to the International Trade Commission (the “Commission”), was in error. The correct “all others” rate is 7.34 percent.

EFFECTIVE DATE: July 5, 2000.

FOR FURTHER INFORMATION CONTACT: Kathryn B. McCormick or James Maeder, Office of Policy for Import Administration, International Trade Administration, U.S. Department of Commerce, 14th Street & Constitution Avenue, NW., Washington, DC 20230: telephone (202) 482-1930 and (202) 482-3330, respectively.

SUPPLEMENTARY INFORMATION:

Background

On July 5, 2000, the Department of Commerce (“the Department”) published in the Federal Register the final results of the full sunset reviews of the countervailing duty orders on pure and alloy magnesium from Canada (65 FR 41444, July 5, 2000). Subsequent to the publication of that notice, we received a submission on behalf of Magcorp alleging a ministerial error in the calculation of the “all others” rate. In addition, Magcorp requested that this allegation be commented on and considered on an expedited basis because the Commission was scheduled to vote in this review on July 13, 2000. Consequently, interested parties were given until July 6, 2000, to comment on Magcorp's allegation.

The Department did not receive comments from interested parties by the July 6, 2000, deadline.

On July 13, 2000, the Department notified the Commission that the final results of review contained a ministerial error in the “all others” rate, and that the correct “all others” rate is 7.34 percent.¹

¹ See July 13, 2000, Letter from Troy H. Cribb, Acting Assistant Secretary for Import Administration to Lynn Featherstone, Director, Office of Investigations, International Trade Commission.

Analysis

In the final results of this sunset review, the Department determined that it would report to the Commission the most recent “all others” rate of 4.48 percent ad valorem, from the third administrative reviews, covering the period from January 1, 1994, through December 31, 1994, which were published April 17, 1997 (see Pure and Alloy Magnesium from Canada; Final Results of the Third (1994) Countervailing Duty Administrative Reviews, 62 FR 18749 (April 17, 1997)). However, according to the final results of the second administrative reviews, covering the period January 1, 1993, through December 31, 1993, and published on September 16, 1997, the most recent rate is 7.34 percent ad valorem (see Pure and Alloy Magnesium from Canada; Final Results of the Second (1993) Countervailing Duty Administrative Reviews, 62 FR 48607, 48610 (September 16, 1997)).

Moreover, reliance on the rate published in the second (1993) administrative reviews is consistent with the Department's post-Uruguay Round Agreements Act (“URAA”) practice, and in accordance with section 777A(e)(1) of the Act, which replaced the general rule in favor of a country-wide rate with a general rule in favor of individual rates for investigated and reviewed companies. As a result, the procedures for establishing countervailing duty rates, including those for non-reviewed companies, are now essentially the same as those in antidumping cases, except as provided for in section 777A(e)(2)(B) of the Act. Therefore, the countervailing duty case deposit rate applicable to a company can no longer change, except pursuant to a request for a review of that company. See Federal-Mogul Corporation and the Torrington Company v. United States, 822 F. Supp. 782 (CIT 1993) and Floral Trade Council v. United States, 822 F. Supp. 766 (CIT). Accordingly, the cash deposit rate applied to companies not reviewed during the 1994 reviews is that established in the most recently completed administrative proceeding conducted pursuant to the statutory provisions that were in effect prior to the URAA amendments, i.e., these 1993 administrative reviews. See Pure and Alloy Magnesium from Canada; Final Results of the First (1992) Countervailing Duty Administrative Reviews, 62 FR 13857 (March 24,1997).² Thus, for non-reviewed companies, the cash deposit will be the rate calculated in these 1993 reviews of 7.34 percent ad valorem, except from Timminco Limited (which was excluded from the order in the original investigation) (62 FR 4807, 48610, September 16, 1997).

² See also Certain Cut-to-Length Carbon Steel Plate from Mexico; Final Results of Countervailing Duty Administrative Review, 65 FR 13368, 13369 (March 13, 2000); Certain Iron-Metal Castings from India; Preliminary Results and Partial Recission of Countervailing Duty Administrative Review, 64 FR 61592, 61602 (November 12, 1999); and Certain Carbon Steel Products from Sweden; Final Results of Countervailing Duty Administrative Review, 64 FR 57038 (October 22, 1999).

Determination

In the final results of the sunset review, we intended to follow our practice to apply to companies not reviewed during the 1994 reviews the cash deposit rate established in the most recently completed administrative review, i.e. the 1993 review. Id. The Department made it clear in the final results of the second administrative reviews (the 1993 reviews) that the “all others” rate for all future entries would be 7.34 percent ad valorem. Id. Accordingly, we are correcting this inadvertent error. Therefore, the correct “all others” rate is 7.34 percent.

This correction is issued and published in accordance with sections 751(h) and 777(i) of the Act.

Dated: August 15, 2000.
Troy H. Cribb,
Acting Assistant Secretary for Import Administration.

[FR Doc. 00-21241 Filed 8-18-00; 8:45 am]

BILLING CODE 3510-DS-P